DEPARTMENT OF THE INTERIOR

Bureau of Land Management

[LLOR-936000-L14300000-ET0000; HAG-13-0180; OR-67721]

Notice of Application for Withdrawal and Opportunity for Public Meeting; Oregon

AGENCY: Bureau of Land Management, Interior.

ACTION: Notice.

SUMMARY: The United States Forest Service (USFS) has filed an application with the Bureau of Land Management (BLM) requesting the Secretary of the Interior to withdraw approximately 240.59 acres of National Forest System lands in the Fremont-Winema National Forest from mining for a 20-year term to protect the integrity, functionality, and the investment of the mine reclamation work completed at the White King/Lucky Lass Mine reclamation project area. This notice segregates the National Forest System lands for up to 2 years from location and entry under the United States mining laws and gives the public an opportunity to comment on the proposed withdrawal application and to request a public meeting.

DATES: Comments and public meeting requests must be received on or before September 9, 2013.

ADDRESSES: Comments and meeting requests should be sent to the BLM Oregon/Washington State Director, P.O. Box 2965, Portland, OR 97208-2965.

FOR FURTHER INFORMATION CONTACT: Robin Ligons, Land Law Examiner, at the addresses above or by telephone at 503-808-6169, or Dianne Torpin, USFS, Pacific Northwest Region, 333 SW 1st Ave., Portland, OR 97204, 503-808-2422. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The USFS has filed an application requesting that the Secretary of the Interior withdraw the following described National Forest System lands in the Fremont-Winema National Forest from location and entry under the United States mining laws, but not from leasing under the mineral leasing laws, for a 20-year term, subject to valid existing rights:

Willamette Meridian

T. 37 S., R. 18 E.,

Sec. 25, NW¼NE¼.

T. 37 S., R. 19 E.,

Sec. 30, lot 1, NW¼NE¼, E½NW¼, and NW¼SE¼.

The areas described aggregate 240.59 acres in Lake County.

The purpose of the proposed withdrawal is to protect the integrity and functionality of the mine reclamation work on the White King/Lucky Lass Mine reclamation project. Mine reclamation work has been completed to contour, cap, and vegetate the site at a construction cost of $4,920,474.

The use of a right-of-way, interagency agreement, or cooperative agreement would not provide adequate protection, and could destroy the integrity and functionality of the mine reclamation work.

There are no suitable alternative sites as the described lands are the actual lands in need of protection for the reclamation work to continue.

The USFS would not need to acquire water rights to fulfill the purpose of the requested withdrawal application.

Records related to the application may be examined by contacting Robin Ligons, BLM Oregon/Washington State Office, at 503-808-6169, or at the addresses listed in the ADDRESSES section above.

For the period until September 9, 2013, all persons who wish to submit comments, suggestions, or objections in connection with the proposed withdrawal application may present their views in writing to the BLM Oregon/Washington State Office, State Director at the address indicated above. Comments, including names and street addresses of respondents, will be available for public review at 333 SW 1st Avenue, indicated above during regular business hours, 8 a.m. to 4 p.m., Monday through Friday, except Federal holidays.

Before including your address, phone number, email address, or other personal identifying information in your comment, be advised that your entire comment—including your personal identifying information—may be made publicly available at any time. Individual respondents may request confidentiality. While you can ask us in your comment to withhold your personal identifying information from public review, we cannot guarantee that we will be able to do so.

Notice is hereby given that an opportunity for a public meeting is afforded in connection with the proposed withdrawal. All interested parties who desire a public meeting for the purpose of being heard on the proposed withdrawal must submit a written request to the BLM Oregon/Washington State Director no later than September 9, 2013.

Upon determination by the authorized officer that a public meeting will be held, a notice of the time and place will be published in the Federal Register and a local newspaper at least 30 days before the scheduled date of the meeting.

For a period until June 11, 2015, the lands described in this notice will be segregated from location and entry under the United States mining laws, but not from leasing under the mineral leasing laws, unless the application is denied or cancelled or the withdrawal is approved prior to that date. Licenses, permits, cooperative agreements, or discretionary land use authorizations of a temporary nature which will not significantly impact the values to be protected by the withdrawal may be allowed with the approval of the authorized officer of the BLM during the segregative period.

The application will be processed in accordance with the regulations set forth in 43 CFR 2310.3.

Christopher B DeWitt,
Acting Chief, Branch of Land, Mineral, and Energy Resources.

[FR Doc. 2013-13792 Filed 6-10-13; 8:45 am]

BILLING CODE 4310-11-P